DEPARTMENT OF THE INTERIOR

Bureau of Land Management

[BLM_WY_FRN_MO4500176091, WYW189153]

Notice of Realty Action: Non-Competitive (Direct) Sale of Public Lands in Sweetwater County, Wyoming

AGENCY: Bureau of Land Management, Interior.

ACTION: Notice of realty action.

SUMMARY: The Bureau of Land Management (BLM) proposes a non-competitive (direct) sale of 307.5 acres of public lands in Sweetwater County, Wyoming, to PacifiCorp. The sale would allow PacifiCorp to gain ownership of the property, which is adjacent to the PacifiCorp Jim Bridger power plant and property owned by PacifiCorp. The sale would be subject to applicable provisions of the Federal Land Policy and Management Act of 1976, as amended (FLPMA), and BLM regulations. The appraised fair market value for the sale parcel is $115,000.

DATES: Interested parties must submit written comments no later than June 3, 2024.

ADDRESSES: Mail written comments to the BLM Rock Springs Field Office, Field Manager, 280 Highway 191 N., Rock Springs, Wyoming, 82901.

FOR FURTHER INFORMATION CONTACT: Lisa Aleshire, Realty Specialist, BLM, Rock Springs Field Office, at the above address, by telephone 307-352-0238 or by email laleshire@blm.gov. Individuals in the United States who are deaf, deafblind, hard of hearing, or have a speech disability may dial 711 (TTY, TDD, or TeleBraille) to access telecommunications relay services. Individuals outside the United States should use the relay services offered within their country to make international calls to the point-of-contact in the United States. You will receive a reply during normal business hours.

SUPPLEMENTARY INFORMATION: The following public lands have been examined and found suitable for sale in accordance with criteria established in Section 203 of FLPMA:

Sixth Principal Meridian, Wyoming

T. 21 N., R. 101 W., sec. 36, E1/2NE1/4, W1/2SW1/4NE1/4SW1/4, SW1/4NW1/4NW1/4SW1/4, S1/2NW1/4SW1/4, S1/2SW1/4, E1/2SE1/4, SW1/4SE1/4.

The area described contains 307.5 acres, according to the official plat of survey of the said land on file with the BLM.

The sale of the parcel is in conformance with the BLM Rock Springs Field Office approved Green River Resource Management Plan (August 8, 1997), which identifies the parcel as suitable for disposal in Appendix 8-1.

A parcel-specific Environmental Assessment (EA) numbered DOI-BLM-WY-D040-2022-0013-EA has been conducted in connection with this sale. A copy of the EA is available online at: https://eplanning.blm.gov/eplanning-ui/project/2016696/510.

Regulations at 43 CFR 2711.3-3(a) allow the direct sale of public lands without competition when a competitive sale is not appropriate and the public interest would best be served by a direct sale. In this case, a competitive sale is not appropriate because the subject lands contain BLM authorized rights-of-way and improvements that directly support the Jim Bridger Power Plant owned by PacifiCorp, rendering the land unusable by the public.

Upon publication of this notice in the Federal Register, the public lands described above will be segregated from all forms of appropriation under the public land laws, including the mining laws, except for the sale provisions of FLPMA.

The temporary segregation will terminate upon: (1) issuance of a conveyance document, (2) publication in the Federal Register terminating the segregation, or (3) on April 20, 2026, unless extended by the BLM Wyoming State Director, in accordance with 43 CFR 2711.1-2(d), prior to the expiration date. Upon publication of this notice in the Federal Register, the BLM will no longer accept land use applications affecting the identified public lands, except applications to amend previously filed right-of-way applications or existing authorizations to increase the term of the grants in accordance with 43 CFR 2807.15 and 2886.15.

The conveyance document, if issued, will be subject to the following terms, conditions, and reservations:

1. A right-of-way thereon for ditches or canals constructed by the authority of the United States, Act of August 30, 1890 (43 U.S.C. 945).

2. All mineral deposits in the lands so conveyed and to it, or persons authorized by it, the right to prospect for, mine and remove such deposits from the same under applicable law and regulations to be established by the Secretary of the Interior, together with all necessary access and exit rights.

3. All valid existing rights issued prior to conveyance.

4. An appropriate indemnification clause protecting the United States from claims arising out of the conveyee's use, occupancy, or operations on the conveyed lands.

5. Additional terms and conditions that the authorized officer deems appropriate.

In addition to publication in the Federal Register, the BLM will also publish this notice in the Rock Springs Rocket Miner newspaper once per week for three consecutive weeks. Only written comments submitted by postal service or overnight mail will be considered as properly filed. Electronic mail, facsimile, or telephone comments will not be considered.

Any adverse comments regarding the sale parcel will be reviewed by the BLM Wyoming State Director or other authorized official of the Department of the Interior, who may sustain, vacate, or modify this realty action in whole or in part. In the absence of any timely filed objections, this realty action will become the final determination of the Department of the Interior.

Before including your address, phone number, email address, or other personal identifying information in your comment, you should be aware that your entire comment—including your personal identifying information—may be made publicly available at any time. While you can ask us in your comment to withhold your personal identifying information from public review, we cannot guarantee that we will be able to do so. Comments, including names and street addresses of respondents, will be available for public review at the BLM Rock Springs Field Office during regular business hours, except holidays.

(Authority: 43 CFR 2711)

Andrew Archuleta,
State Director, Wyoming.

[FR Doc. 2024-08331 Filed 4-17-24; 8:45 am]

BILLING CODE 4331-26-P